ENVIRONMENTAL PROTECTION AGENCY

40 CFR Part 62

[EPA-R06-OAR-2011-0513; FRL-10006-30-Region 6]

Approval and Promulgation of State Air Quality Plans for Designated Facilities and Pollutants; New Mexico and Albuquerque-Bernalillo County, New Mexico; Control of Emissions From Existing Other Solid Waste Incineration Units

AGENCY: Environmental Protection Agency (EPA).

ACTION: Withdrawal of direct final rule.

SUMMARY: The Environmental Protection Agency (EPA) is withdrawing a direct final rule published on January 15, 2020, because a relevant adverse comment was received. The rule would have amended EPA regulations to notify the public of Clean Air Act (CAA) section 111(d)/129 negative declarations from New Mexico and Albuquerque-Bernalillo County, New Mexico for existing Other Solid Waste Incineration (OSWI) units. The EPA will address the comment received in a subsequent final rulemaking.

DATES: The direct final rule published on January 15, 2020 (85 FR 2316), is withdrawn effective March 23, 2020.

FOR FURTHER INFORMATION CONTACT: Karolina Ruan Lei, (214) 665-7346, ruan-lei.karolina@epa.gov.

SUPPLEMENTARY INFORMATION: Throughout this document “we,” “us,” and “our” means the EPA. On January 15, 2020, we published a direct final rule notifying the public that we had received CAA section 111(d)/129 negative declarations from New Mexico and Albuquerque-Bernalillo County for existing OSWI units (85 FR 2316). These negative declarations certify that existing OSWI units subject to the requirements of sections 111(d) and 129 of the CAA do not exist within the specified jurisdictions in New Mexico. The direct final rule was published without prior proposal because we anticipated no adverse comments. We stated in the direct final rule that if we received relevant adverse comments by February 14, 2020, we would publish a timely withdrawal in the Federal Register. Since we received a relevant adverse comment, we are withdrawing the direct final rule and will address the comment in a subsequent final rulemaking.

List of Subjects in 40 CFR Part 62

Environmental protection, Administrative practice and procedure, Air pollution control, Intergovernmental relations, Reporting and recordkeeping requirements, Waste treatment and disposal.

Dated: March 13, 2020.
Kenley McQueen,
Regional Administrator, Region 6.

PART 62—APPROVAL AND PROMULGATION OF STATE PLANS FOR DESIGNATED FACILITIES AND POLLUTANTS

Accordingly, the amendments to 40 CFR part 62 published in the Federal Register on January 15, 2020 (85 FR 2316), which were to become effective on April 14, 2020, are withdrawn.

[FR Doc. 2020-05776 Filed 3-20-20; 8:45 am]

BILLING CODE 6560-50-P